Title 3—

The President

Proclamation 8316 of October 31, 2008

National Hospice Month, 2008

By the President of the United States of America

A Proclamation

During National Hospice Month, we honor the dedicated health care professionals and volunteers who help the terminally ill spend their final days in comfort and with dignity. Hospice care providers and other compassionate individuals are a constant reminder that the greatness of America lies in the hearts and souls of its citizens.

Americans believe that every person has matchless value throughout all of life's stages. Hospice physicians, nurses, counselors, and volunteers put this belief into action by using their talents and energy to care for those who are terminally ill and by providing support and comfort to their loved ones. As an alternative to traditional services, hospice care frequently provides assistance in the home so that patients can be surrounded by family and friends. Hospice counselors offer guidance to patients, as well as to those close to them, as they deal with grief, anxiety, and other end-of-life issues. Through these and countless other acts of compassion, our Nation's hospice caregivers lift up souls, offer peace of mind, and strengthen America's culture of life.

Throughout National Hospice Month, we recognize hospice care professionals and volunteers for their selfless efforts to provide physical, psychological, and spiritual assistance to terminally ill patients and their families.

NOW, THEREFORE, I, GEORGE W. BUSH, President of the United States of America, by virtue of the authority vested in me by the Constitution and laws of the United States, do hereby proclaim November 2008 as National Hospice Month. I encourage all Americans to observe this month with appropriate programs and activities. I also ask Americans to recognize our health care professionals and volunteers for their contributions to helping provide comfort and care to those facing terminal illness.

IN WITNESS WHEREOF, I have hereunto set my hand this thirty-first day of October, in the year of our Lord two thousand eight, and of the Independence of the United States of America the two hundred and thirty-third.

[FR Doc. E8-26524

Filed 11-4-08; 8:45 am]

Billing code 3195-W9-P